DEPARTMENT OF HEALTH AND HUMAN SERVICES

Health Resources and Services Administration

Agency Information Collection Activities: Rural Health Care Coordination Program Performance Improvement Measures

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than July 22, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Rural Health Care Coordination Program Performance Improvement Measures, OMB No. 0906-0024—Revision.

Abstract: The Rural Health Care Coordination (Care Coordination) Program is authorized under 42 U.S.C. 254c(e) (section 330A(e) of the Public Health Service Act) to promote rural health care services outreach by improving and expanding the delivery of health care services through comprehensive care coordination strategies addressing a primary focus area: (1) heart disease; (2) cancer; (3) chronic lower respiratory disease; (4) stroke; or (5) maternal health. This authority permits the Federal Office of Rural Health Policy within HRSA to award grants to eligible entities to promote rural health care services outreach by improving and expanding the delivery of health care services to include new and enhanced services in rural areas, through community engagement and evidence-based or innovative, evidence-informed models. HRSA currently collects information about Care Coordination Program grants using an OMB-approved set of performance measures and seeks to revise that approved collection. The proposed changes to this information collection are a result of award recipient feedback and information gathered from the previously approved Care Coordination Program measures.

A 60-day notice was published in the Federal Register on January 17, 2024, 89 FR 2960-2961. There were no public comments.

Need and Proposed Use of the Information: This program needs measures that will enable HRSA to provide aggregate program data required by Congress under the Government Performance and Results Act of 1993. These measures cover the principal topic areas of interest to HRSA, including: (1) access to care; (2) population demographics and social determinants of health; (3) care coordination and network infrastructure; (4) sustainability; (5) leadership and workforce; (6) electronic health record; (7) telehealth; (8) utilization; and (9) clinical measures/improved outcomes. All measures will evaluate HRSA's progress toward achieving its goals.

The proposed changes include additional components under “Access to Care” and “Population Demographic” sections that seek information about the target population, counties served, direct services, and social determinants of health such as transportation barriers, housing, and food insecurity. Questions about Health Information Technology and Telehealth have been modified to reflect an updated telehealth definition and to improve understanding of how these important technologies are affecting HRSA award recipients. Sections previously titled “Care Coordination” and “Quality Improvement” sections were consolidated into one section titled “Care Coordination and Network Infrastructure” to improve clarity and ease of reporting for respondents. Part of the previous “Care Coordination” section was revised to include a section titled “Utilization” to improve clarity of instructions for related measures. Previously titled “Staffing” section was revised to “Leadership and Workforce Composition” to improve measure clarity and reduce overall burden for respondents by consolidating measures from previously separate “Staffing”, “Quality Improvement” and “Care Coordination” sections. Revised National Quality Forum and Centers for Medicare & Medicaid Services measures were also included to allow uniform collection efforts throughout the Federal Office of Rural Health Policy.

The total number of measures has increased from 40 total measures to 48 total measures since the previous information collection request. Of the 48 measures, 11 measures are designated as “optional” or “complete as applicable”. The measures within Section 6: Electronic Health Record are noted as optional to grantees. In Section 9: “Clinical Measures/Improved Health Outcomes”, grantees are only required to respond to Clinical Measure 1: Care Coordination. Grantees can choose to provide data for Clinical Measures 2-10 if applicable to their projects. The total number of responses has remained at 10 since the previous information collection request. While the new Care Coordination Program grant cycle maintained the same number of award recipients and number of respondents, in consideration of the new cohort of awardees, HRSA has increased the estimated average burden per response. The increase in burden is largely due to the amount of time it takes to build systems to capture and report data at the start of a new project. Recent feedback from grantees indicated that larger networks with multiple members and programs across different organizations also experienced higher burdens due to the wait time in between responses. The increase in burden hours remains consistent with the proposed changes that better reflect the program scope and intent of the notice of funding opportunity announcement, HRSA-23-125, under which the new cohort of grants was awarded.

Likely Respondents: The respondents would be recipients of the Rural Health Care Coordination Program grants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Care Coordination Program Performance Improvement Measures | 10 | 1 | 10 | 48.67 | 486.70
Total | 10 |  | 10 |  | 486.70

Maria G. Button,
Director, Executive Secretariat.

[FR Doc. 2024-13624 Filed 6-20-24; 8:45 am]

BILLING CODE 4165-15-P